SECURITIES AND EXCHANGE COMMISSION

[Release No. 34-65094; File No. SR-NASDAQ-2011-115]

Self-Regulatory Organizations; the NASDAQ Stock Market LLC; Notice of Filing and Immediate Effectiveness of Proposed Rule Change To Extend the Pilot Period of the Trading Pause for NMS Stocks

August 10, 2011.

Correction

In notice document 2011-20735 appearing on pages 50779-50781 in the issue of August 16, 2011, make the following correction:

On page 50779, in the second column, the File No. in the heading is corrected to read as it appears above.

[FR Doc. C1-2011-20735 Filed 8-22-11; 8:45 am]

BILLING CODE 1505-01-D